DEPARTMENT OF TRANSPORTATION

Federal Aviation Administration

14 CFR Part 71

[Docket No. FAA-2022-0167; Airspace Docket No. 22-AGL-14]

RIN 2120-AA66

Establishment of Class D Airspace; Chicago/Romeoville, IL

AGENCY: Federal Aviation Administration (FAA), DOT.

ACTION: Final rule.

SUMMARY: This action establishes Class D airspace at Chicago/Romeoville, IL. This action supports the establishment of an air traffic control tower at Lewis University Airport, Chicago/Romeoville, IL.

DATES: Effective 0901 UTC, December 29, 2022. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class D airspace at Lewis University Airport, Chicago/Romeoville, IL, to support instrument flight rule operations at this airport.

History

The FAA published a notice of proposed rulemaking (NPRM) in the Federal Register (87 FR 16435; March 23, 2022) for Docket No. FAA-2022-0167 to establish Class D airspace at Chicago/Romeoville, IL. Interested parties were invited to participate in this rulemaking effort by submitting written comments on the proposal to the FAA. Eleven (11) comments were received. Ten (10) recommending a reduction in the proposed airspace, and two (2) stating that the air traffic control tower and airspace were not necessary. The following responses are provided.

In response to the recommendations that the airspace be reduced: The FAA has reviewed the recommendations, and determined that an exclusion area could be supported as well as reducing the vertical limit of the airspace from 3,200 feet MSL to 2,900 feet MSL. This area is not as large as that recommended in the comments due to requirements for the airspace to protect the instrument procedures at Lewis University Airport as required by FAA Order JO 7400.2N, Procedures for Handling Airspace Matters.

In response to the comments regarding the need for the air traffic control tower and associated airspace: The Joliet Regional Port District commissioned the construction of an air traffic control tower in accordance with (IAW) applicable FAA orders and directives, and applied for air traffic services through the FAA Contract Tower program IAW FAA Order JO 7210.78, FAA Contract Tower (FCT) New Start and Replacement Tower Process. LOT has since been accepted into the FCT program. The LOT FCT will provide terminal services and thus requires class D airspace IAW FAA Order JO 74002.N.

Class D airspace designations are published in paragraph 5000 of FAA Order JO 7400.11G, dated August 19, 2022, and effective September 15, 2022, which is incorporated by reference in 14 CFR 71.1. The Class D airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Differences From the NPRM

An exclusion area has been added to the airspace legal description and the vertical limit of the airspace reduced from 3,200 feet MSL to 2,900 feet MSL in response to the comments received from the NPRM. As these changes are a reduction in the airspace previously proposed, they have been incorporated into this final rule.

The term “Notice to Airmen” has been updated to “Notice to Air Missions” since the NPRM was published. As this is an administrative amendment and does not affect the airspace as proposed in the NPRM, this update has been incorporated into this action.

The Rule

This amendment to 14 CFR part 71 establishes Class D airspace within a 4.1-mile radius of Lewis University Airport, Chicago/Romeoville, IL, extending from the surface up to and including 2,900 feet MSL excluding that area north of a line from lat. 41°37′56″ N, long. 88°10′54″ W to lat. 41°40′21″ N, long. 88°06′02″ W to lat. 41°40′35″ N, long. 88°05′57″ W.

This action supports the establishment of an air traffic control tower at Lewis University Airport.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order JO 7400.11G, Airspace Designations and Reporting Points, dated August 19, 2022, and effective September 15, 2022, is amended as follows:

Paragraph 5000 Class D Airspace.

* * * * *

AGL IL D Chicago/Romeoville, IL [Establish]

Lewis University Airport, IL

(Lat. 41°36′29″ N, long. 88°05′47″ W)

That airspace extending upward from the surface to and including 2,900 feet MSL within a 4.1-mile radius of Lewis University Airport excluding that area north of a line from lat. 41°37′56″ N, long. 88°10′54″ W to lat. 41°40′21″ N, long. 88°06′02″ W to lat. 41°40′35″ N, long. 88°05′57″ W. This Class D airspace area is effective during specific dates and times established in advance by a Notice to Air Missions. The effective dates and times will thereafter be continuously published in the Chart Supplement.

Issued in Fort Worth, Texas, on October 12, 2022.
Martin A. Skinner,
Acting Manager, Operations Support Group, ATO Central Service Center.

[FR Doc. 2022-22498 Filed 10-21-22; 8:45 am]

BILLING CODE 4910-13-P